DEPARTMENT OF ENERGY

Federal Energy Regulatory Commission

Notice of Filings #1

September 7, 2005.

Take notice that the Commission received the following electric rate filings:

Docket Numbers: ER04-780-003.

Applicants: Southern Company Services, Inc.

Description: Southern Company Services, Inc as agent for Alabama Power Co. et al. submits an informational filing concerning the payment of refunds in connection with the True-Up Informational filing submitted on 4/29/04.

Filed Date: 08/31/2005.

Accession Number: 20050902-0013.

Comment Date: 5 p.m. Eastern Time on Wednesday, September 21, 2005.

Docket Numbers: ER05-1119-001.

Applicants: Doswell Limited Partnership.

Description: Doswell Limited Partnership submits its Substitute Original Sheet No. 7 reflecting removal of the cost attributable to the combustion turbine agreement filed in ER05-1119.

Filed Date: 08/31/2005.

Accession Number: 20050902-0015.

Comment Date: 5 p.m. Eastern Time on Wednesday, September 21, 2005.

Docket Numbers: ER05-1314-001.

Applicants: Allegheny Power.

Description: Allegheny Power submits a Corrected Original Sheet No. 6, to its FERC Electric Tariff, First Revised Volume 6.

Filed Date: 08/31/2005.

Accession Number: 20050902-0014.

Comment Date: 5 p.m. Eastern Time on Wednesday, September 21, 2005.

Docket Numbers: ER05-1410-000; EL05-148-000.

Applicants: PJM Interconnection, L.L.C.

Description: PJM Interconnection, LLC submits its new Reliability Pricing Model modifying the existing capacity rules in PJM's region to address current inadequacies.

Filed Date: 08/31/2005.

Accession Number: 20050902-0088.

Comment Date: 5 p.m. Eastern Time on Wednesday, September 21, 2005.

Docket Numbers: ER05-1411-000.

Applicants: First Electric Cooperative Corporation.

Description: First Electric Cooperative Corporation advises that due to amendments to section 201(f) of the Federal Power Act, it is no longer a public utility.

Filed Date: 08/31/2005.

Accession Number: 20050906-0042.

Comment Date: 5 p.m. Eastern Time on Wednesday, September 21, 2005.

Docket Numbers: ER05-1412-000.

Applicants: Kandiyohi Cooperative Electric Power Association.

Description: Kandiyohi Power Cooperative advises that due to amendments to section 201(f) of the Federal Power Act, it is no longer a public utility .

Filed Date: 08/31/2005.

Accession Number: 20050906-0035.

Comment Date: 5 p.m. Eastern Time on Wednesday, September 21, 2005.

Docket Numbers: ER05-1413-000.

Applicants: White River Electric Association, Inc.

Description: White River Electric Association Inc advises FERC that due to amendments to section 201(f) of the Federal Power Act, it is no longer a public utility.

Filed Date: 08/31/2005.

Accession Number: 20050906-0034.

Comment Date: 5 p.m. Eastern Time on Wednesday, September 21, 2005.

Docket Numbers: ER05-1414-000.

Applicants: San Diego Gas & Electric Company.

Description: San Diego Gas & Electric Co submits its First Revised Sheet 129, 131, 132 and 148 of its Rate Schedule 12.

Filed Date: 08/31/2005.

Accession Number: 20050906-0043.

Comment Date: 5 p.m. Eastern Time on Wednesday, September 21, 2005.

Docket Numbers: ER05-1415-000.

Applicants: California Independent System Operator Corporation.

Description: California Independent System Operator Corp., submits Amendment 2 to the Participating Generator Agreement with Energia Azteca X, S. de R.L de C.V, Second Revised Service Agreement 539.

Filed Date: 08/31/2005.

Accession Number: 20050906-0036.

Comment Date: 5 p.m. Eastern Time on Wednesday, September 21, 2005.

Docket Numbers: ER05-1416-000.

Applicants: Southwest Power Pool, Inc.

Description: Southwest Power Pool, Inc., files an executed service agreement for long-term firm point-to-point transmission service with Southwestern Public Service Co dba Xcel Energy Marketing.

Filed Date: 08/31/2005.

Accession Number: 20050906-0037.

Comment Date: 5 p.m. Eastern Time on Wednesday, September 21, 2005.

Docket Numbers: ER05-1417-000.

Applicants: Allegheny Energy Supply Company, LLC.

Description: Allegheny Energy Supply Co, LLC's files a rate schedule on behalf of Buchanan Generation, LLC.

Filed Date: 08/31/2005.

Accession Number: 20050906-0038.

Comment Date: 5 p.m. Eastern Time on Wednesday, September 21, 2005.

Docket Numbers: ER05-1418-000.

Applicants: Reliant Energy Wholesale Generation, LLC.

Description: Reliant Energy Wholesale Generation, LLC submits a rate schedule, supporting testimony and cost data for reactive service.

Filed Date: 08/31/2005.

Accession Number: 20050906-0039.

Comment Date: 5 p.m. Eastern Time on Wednesday, September 21, 2005.

Docket Numbers: ER05-1419-000.

Applicants: Hot Spring Power Company, LP.

Description: Hot Spring Power Co, LP submits a rate schedule under which it specifies its rates for providing cost-based for reactive service.

Filed Date: 08/31/2005.

Accession Number: 20050906-0040.

Comment Date: 5 p.m. Eastern Time on Wednesday, September 21, 2005.

Docket Numbers: ER05-1420-000.

Applicants: Lehman Brothers Commodity Services Inc.

Description: Lehman Brothers Commodity Services, Inc submits for acceptance and approval Rate Schedule FERC No. 1 and requests blanket authorization to make wholesale sales of electric power.

Filed Date: 08/31/2005.

Accession Number: 20050906-0041.

Comment Date: 5 p.m. Eastern Time on Wednesday, September 21, 2005.

Docket Numbers: ER98-1466-003, ER00-814-004, ER01-2067 004, ER01-2068-004, ER01-332-003, ER00-2924-004, ER02-1638-003.

Applicants: Allegheny Power, Allegheny Energy Supply Company, LLC; Allegheny Energy Supply Gleason Generating Facility, LLC; Allegheny Energy Supply Wheatland Generating Facility, LLC; Allegheny Energy Supply Hunlock Creek, LLC; Green Valley Hydro, LLC; Buchanan Generating, LLC.

Description: Monongahela Power Co. et al. dba Allegheny Power submits corrected Original Sheet 12 as an amendment to its 8/11/05 submittal under ER98-1466 et al.

Filed Date: 08/31/2005.

Accession Number: 20050901-0168.

Comment Date: 5 p.m. Eastern Time on Wednesday, September 21, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E5-4981 Filed 9-12-05; 8:45 am]

BILLING CODE 6717-01-P